DEPARTMENT OF STATE

[Public Notice 6262]

In the Matter of the Review of the Designation of Lashkar i Jhangvi as a Foreign Terrorist Organization Pursuant to Section 219 of the Immigration and Nationality Act, as Amended

Based upon a review of the Administrative Record assembled in this matter, and in consultation with the Attorney General and the Secretary of the Treasury, I conclude that there is a sufficient factual basis to find that the circumstances that were the basis for the 2003 designation of Lashkar i Jhangvi as a foreign terrorist organization have not changed in such a manner as to warrant revocation of the designation and that the national security of the United States does not warrant a revocation.

Therefore, I hereby determine that the designation of Lashkar i Jhangvi as a foreign terrorist organization, pursuant to Section 219 of the Immigration and Nationality Act, as amended (8 U.S.C. 1189), shall be maintained.

This determination shall be published in the Federal Register.

Dated: June 9, 2008.
John D. Negroponte,
Deputy Secretary of State, Department of State.

[FR Doc. E8-13620 Filed 6-16-08; 8:45 am]

BILLING CODE 4710-10-P